DEPARTMENT OF TRANSPORTATION

Federal Highway Administration

Rescinding the Notice of Intent for an Environmental Impact Statement; Multiple Counties, Alabama

AGENCY: Federal Highway Administration (FHWA), DOT.

ACTION: Rescind Notice of Intent.

SUMMARY: The FHWA is issuing this notice to advise the public that the 2002 Notice of Intent (NOI) published in the Federal Register for Federal-aid project HPP-1602(507), the Dothan to I-10 corridor, in multiple counties in Alabama is being rescinded. A final environmental impact statement (EIS) will not be prepared for this project.

FOR FURTHER INFORMATION CONTACT: Mr. Mark D. Bartlett, Division Administrator, Federal Highway Administration, 9500 Wynlakes Place, Montgomery, Alabama 36117; Email: mark.bartlett@dot.gov; Telephone: (334) 274-6350.

SUPPLEMENTARY INFORMATION: The FHWA, in cooperation with the Alabama Department of Transportation, is rescinding the NOI to prepare an EIS for Federal-aid project HPP-1602(507). The proposed project was to construct a multi-lane, limited access roadway from the Florida state line at U.S. 231 to the City of Dothan and connecting to U.S. 231 north of the City. The study area included Dale, Houston and Geneva Counties.

The NOI for the project was published in the Federal Register on November 18, 2002. A draft EIS was released in November 2007. The FHWA has determined, in conjunction with ALDOT, the NOI for the project shall be rescinded due to difficulties coordinating termini, design decisions and environmental efforts with the Florida Department of Transportation. ALDOT decided not to advance this project.

Any future Federal-aid actions within this corridor will comply with environmental review requirements of the National Environmental Policy Act (NEPA, 42 U.S.C. 4321, et seq.), FHWA environmental regulations (23 CFR 771) and related authorities, as appropriate.

Authority: 23 U.S.C. 315; 49 CFR 1.48.

(Catalog of Federal Domestic Assistance Program Number 20.205, Highway Planning and Construction. The regulations implementing Executive Order 12372 regarding intergovernmental consultation on Federal programs and activities apply to this program.)

Issued on: August 20, 2018.
Mark Bartlett,
Division Administrator, Federal Highway Administration, Montgomery, Alabama.

[FR Doc. 2018-18666 Filed 8-27-18; 8:45 am]

BILLING CODE 4910-22-P